Title 3—

The President

Memorandum of June 19, 2013

Delegation of Reporting Functions Specified in Section 491 of Title 10, United State Code

Memorandum for the Secretary of Defense

By the authority vested in me as President by the Constitution and the laws of the United States of America, including section 301 of title 3 of the United States Code, I hereby delegate to you the reporting functions conferred upon the President by section 491 of title 10, United States Code.

You are authorized and directed to publish this memorandum in the Federal Register.

THE WHITE HOUSE,

Washington, June 19, 2013.

[FR Doc. 2013-15234

Filed 6-21-13; 11:15 am]

Billing code 5001-06